DEPARTMENT OF JUSTICE

Antitrust Division

Notice Pursuant to the National Cooperative Research and Production Act of 1993—Motorola/Engelhard Fuel Cell Research

Notice is hereby given that, on October 1, 2003, pursuant to section 6(a) of the National Cooperative Research and Production Act of 1993, 15 U.S.C. 4301 et seq. (“the Act”), Motorola/Engelhard Fuel Cell Research has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Motorola Inc., Motorola Labs, Tempe, AZ; and Engelhard Corp., Iselin, NJ. The nature and objectives of the venture are to develop and demonstrate a methanol-fueled steam reformer to generate hydrogen for a miniature fuel cell power source.

Dorothy B. Fountain,
Deputy Director of Operations, Antitrust Division.

[FR Doc. 03-27379 Filed 10-29-03; 8:45 am]

BILLING CODE 4410-11-M